FEDERAL COMMUNICATIONS COMMISSION

47 CFR Part 54

[WC Docket Nos. 18-143, 10-90, 14-58; FCC 19-95; FRS 30653]

The Uniendo a Puerto Rico Fund and the Connect USVI Fund, Connect America Fund, ETC Annual Reports and Certifications

AGENCY: Federal Communications Commission.

ACTION: Final rule; announcement of effective date.

SUMMARY: In this document, the Federal Communications Commission (Commission) announces that the Office of Management and Budget (OMB) has approved, for a period of three years, an information collection associated with the rules for the Connect America Fund contained in the Commission's Uniendo a Puerto Rico Fund and Connect USVI Fund Order, FCC 19-95. This document is consistent with the Uniendo a Puerto Rico Fund and Connect USVI Fund Order, which stated that the Commission would publish a document in the Federal Register announcing the effective date of the new information collection requirements.

DATES: The amendments to § 54.313(e) introductory text, (e)(2) introductory text and paragraphs (n) and (o) published at 84 FR 59937, November 7, 2019 are effective June 8, 2021.

FOR FURTHER INFORMATION CONTACT: Suzanne Yelen, Wireline Competition Bureau at (202) 418-7400 or TTY (202) 418-0484. For additional information concerning the Paperwork Reduction Act information collection requirements contact Nicole Ongele at (202) 418-2991 or via email: Nicole.Ongele@fcc.gov.

SUPPLEMENTARY INFORMATION: The Commission submitted revised information collection requirements for review and approval by OMB, as required by the Paperwork Reduction Act (PRA) of 1995, on March 8, 2021, which were approved by OMB on May 10, 2021. The information collection requirements are contained in the Commission's Uniendo a Puerto Rico Fund and Connect USVI Fund Order, FCC 19-95 published at 84 FR 59937, November 7, 2019. The OMB Control Number is 3060-0986. If you have any comments on the burden estimates listed in the following, or how the Commission can improve the collections and reduce any burdens caused thereby, please contact Nicole Ongele, Federal Communications Commission, 45 L Street NE, Washington, DC 20554. Please include the OMB Control Number, 3060-0986, in your correspondence. The Commission will also accept your comments via email at PRA@fcc.gov.

To request materials in accessible formats for people with disabilities (braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received OMB approval on May 10, 2021, for the information collection requirements contained in 47 CFR 54.313(e) introductory text, (e)(2) introductory text and paragraphs (n) and (o) published at 84 FR 59937, November 7, 2019. Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0986.

The foregoing notification is required by the Paperwork Reduction Act of 1995, Public Law 104-13, October 1, 1995, and 44 U.S.C. 3507.

The total annual reporting burdens and costs for the respondents are as follows:

OMB Control Number: 3060-0986.

OMB Approval Date: May 10, 2021.

OMB Expiration Date: May 31, 2024.

Title: High-Cost Universal Service Support.

Form Number: FCC Form 481 and FCC Form 525.

Type of Review: Revision of a currently approved collection.

Respondents: Business or other for-profit, Not-for-profit institutions and State, Local or Tribal Government.

Number of Respondents and Responses: 2,049 unique respondents; 14,358 responses.

Estimated Time per Response: 0.1-15 hours.

Frequency of Response: On occasion, quarterly and annual reporting requirements, recordkeeping requirement and third party disclosure requirement.

Obligation to Respond: Required to obtain or retain benefits. Statutory authority for this information collection is contained in 47 U.S.C. 151-154, 155, 201-206, 214, 218-220, 251, 252, 254, 256, 303(r), 332, 403, 405, 410, and 1302.

Total Annual Burden: 53,955 hours.

Total Annual Cost: No Cost.

Privacy Act Impact Assessment: No impact(s).

Nature and Extent of Confidentiality: The Commission notes that the Universal Service Administrative Company (USAC) must preserve the confidentiality of all data obtained from respondents and contributors to the universal service support program mechanism; must not use the data except for purposes of administering the universal service program; must not use the data except for purposes of administering the universal support program; and must not disclose data in company-specific form unless directed to do so by the Commission. Parties may submit confidential information in relation to the Privately Held Rate-of-Return Carrier Financial Information requirement pursuant to a protective order. Also, respondents may request materials or information submitted to the Commission or to the Administrator believed confidential to be withheld from public inspection under 47 CFR 0.459 of the FCC's rules.

Needs and Uses: On November 18, 2011, the Commission adopted an order reforming its high-cost universal service support mechanisms. Connect America Fund; A National Broadband Plan for Our Future; Establish Just and Reasonable Rates for Local Exchange Carriers; High-Cost Universal Service Support; Developing a Unified Intercarrier Compensation Regime; Federal-State Joint Board on Universal Service; Lifeline and Link-Up; Universal Service Reform—Mobility Fund, WC Docket Nos. 10-90, 07-135, 05-337, 03-109; GN Docket No. 09-51; CC Docket Nos. 01-92, 96-45; WT Docket No. 10-208, Order and Further Notice of Proposed Rulemaking, 26 FCC Rcd 17663 (2011) (USF/ICC Transformation Order), and the Commission and Wireline Competition Bureau have since adopted a number of orders that implement the USF/ICC Transformation Order; see also Connect America Fund et al., WC Docket No. 10-90 et al., Third Order on Reconsideration, 27 FCC Rcd 5622 (2012); Connect America Fund et al., WC Docket No. 10-90 et al., Order, 27 FCC Rcd 605 (Wireline Comp. Bur. 2012); Connect America Fund et al., WC Docket No. 10-90 et al., Fifth Order on Reconsideration, 27 FCC Rcd 14549 (2012); Connect America Fund et al., WC Docket No. 10-90 et al., Order, 28 FCC Rcd 2051 (Wireline Comp. Bur. 2013); Connect America Fund et al., WC Docket No. 10-90 et al., Order, 28 FCC Rcd 7227 (Wireline Comp. Bur. 2013); Connect America Fund, WC Docket No. 10-90, Report and Order, 28 FCC Rcd 7766 (Wireline Comp. Bur. 2013); Connect America Fund, WC Docket No. 10-90, Report and Order, 28 FCC Rcd 7211 (Wireline Comp. Bur. 2013); Connect America Fund, WC Docket No. 10-90, Report and Order, 28 FCC Rcd 10488 (Wireline Comp. Bur. 2013); Connect America Fund et al., WC Docket No. 10-90 et al., Report and Order, Order and Order on Reconsideration and Further Notice of Proposed Rulemaking, 31 FCC Rcd 3087 (2016); Connect America Fund et al., WC Docket Nos. 10-90, 16-271; WT Docket No. 10-208, Report and Order and Further Notice of Proposed Rulemaking, 31 FCC Rcd 10139 (2016); Connect America Fund; ETC Annual Reports and Certifications, WC Docket Nos. 10-90, 14-58, Order, 32 FCC Rcd 968 (2017); Connect America Fund et al., WC Docket No. 10-90 et al., Report and Order, Further Notice of Proposed Rulemaking, and Order on Reconsideration, 33 FCC Rcd 11893 (2018); Connect America Fund; ETC Annual Reports and Certifications, WC Docket Nos. 10-90, 14-58, Report and Order, 32 FCC Rcd 5944 (2017). The Commission has received OMB approval for most of the information collections required by these orders. At a later date, the Commission plans to submit additional revisions for OMB review to address other reforms adopted in the orders.

More recently, the Commission adopted the Uniendo a Puerto Rico Fund and Connect USVI Fund Order, which allocated nearly a billion additional dollars to United States territories that had suffered extensive infrastructure damage due to Hurricanes Irma and Maria. The Uniendo a Puerto Rico Fund and the Connect USVI Fund, et al., WC Docket No. 18-143, et al., Report and Order and Order on Reconsideration, 34 FCC Rcd 9109 (2019) (Puerto Rico and USVI Stage 2 Order). The Commission adopted similar accountability measures for recipients of this support as required of other high-cost support recipients to ensure that providers receive support “only for the provision, maintenance, and upgrading of facilities and services for which the support is intended.” Puerto Rico and USVI Stage 2 Order, 34 FCC Rcd at 9149, para. 72.

In the 2019 Supply Chain Order, the Commission also adopted a rule prohibiting the use of USF support to purchase or obtain any equipment or services produced or provided by a covered company posing a national security threat to the integrity of communications networks or the communications supply chain. Protecting Against National Security Threats to the Communications Supply Chain Through FCC Programs, WC Docket No. 18-89, Report and Order, Further Notice of Proposed Rulemaking, and Order, 34 FCC Rcd 11423, 11433, para. 26. See also 47 CFR 54.9. In June 2020, the Public Safety and Homeland Security Bureau issued final designations of Huawei Technologies Company (Huawei) and ZTE Corp. (ZTE) as covered companies for the purposes of this rule. Protecting Against National Security Threats to the Communications Supply Chain Through FCC Programs—Huawei Designation, WC Docket No. 19-351, Order, 35 FCC Rcd 6604 (PSHSB June 30, 2020) (Huawei Designation Order); Protecting Against National Security Threats to the Communications Supply Chain Through FCC Programs—ZTE Designation, WC Docket No. 19-352, Order, 35 FCC Rcd 6633 (PSHSB June 30, 2020) (ZTE Designation Order). Accordingly, USF recipients may not use USF funds to purchase, obtain, maintain, improve, modify, manage, or otherwise support Huawei or ZTE equipment or services in any way, including upgrades to existing Huawei or ZTE equipment and services. Huawei Designation Order, 35 FCC Rcd at 6608, para. 10; ZTE Designation Order, 35 FCC Rcd at 6637, para. 10. Moreover, USF recipients must certify that they are in compliance with this rule. 2019 Supply Chain Order, 34 FCC Rcd at 11454, para. 79; see also 47 CFR 54.9.

Lastly, in the CAF Phase II Auction Order, in addition to rules requiring Connect America Phase II auction support recipients to report regarding support used for capital expenditures, certify regarding available funds, and certify that the Phase II-funded network meets performance requirements, the Commission also adopted rules requiring that Phase II auction support recipients must report information on served community anchor institutions and certify regarding bidding on FCC Form 470 postings for eligible schools and libraries in census blocks where the carrier receives auction support. Connect America Fund, et al., WC Docket No. 10-90, et al., Report and Order and Further Notice of Proposed Rulemaking, 31 FCC Rcd 5949 (2016) (CAF Phase II Auction Order). Recipients of Uniendo a Puerto Rico Fund and Connect USVI Fund Stage 2 support must also observe these requirements in addition to the general requirements for high-cost support recipients and requirements specific to the Uniendo a Puerto Rico Fund and Connect USVI Fund programs. See Puerto Rico and USVI Stage 2 Order, 34 FCC Rcd at 9150, para. 74.

The Commission therefore revises this information collection, as well as Form 481 and its accompanying instructions, to reflect these new and revised requirements. We also eliminated one requirement that is associated with obligations no longer in effect for certain carriers. Any increased burdens for reporting requirements account for the additional carriers that will be subject to those requirements as a condition for receiving high-cost support.

Federal Communications Commission.
Marlene Dortch,
Secretary, Office of the Secretary.

[FR Doc. 2021-11903 Filed 6-7-21; 8:45 am]

BILLING CODE 6712-01-P